DEPARTMENT OF ENERGY

Federal Energy Regulatory Commission

Combined Notice of Filings

Take notice that the Commission has received the following Natural Gas Pipeline Rate and Refund Report filings:

Filings Instituting Proceedings

Docket Numbers: PR24-56-000.

Applicants: Columbia Gas of Ohio, Inc.

Description: 284.123 Rate Filing: COH Rates effective 1-31-2024 to be effective 1/31/2024.

Filed Date: 3/1/24.

Accession Number: 20240301-5079.

Comment Date: 5 p.m. ET 3/22/24.

Docket Numbers: RP24-458-000.

Applicants: El Paso Natural Gas Company, L.L.C.

Description: 4(d) Rate Filing: Negotiated Rate Agreement Update (Conoco Mar 2024) to be effective 3/1/2024.

Filed Date: 2/29/24.

Accession Number: 20240229-5159.

Comment Date: 5 p.m. ET 3/12/24.

Docket Numbers: RP24-459-000.

Applicants: Transcontinental Gas Pipe Line Company, LLC.

Description: 4(d) Rate Filing: 2024 Annual Transco Fuel Tracker to be effective 4/1/2024.

Filed Date: 2/29/24.

Accession Number: 20240229-5161.

Comment Date: 5 p.m. ET 3/12/24.

Docket Numbers: RP24-460-000.

Applicants: Northwest Pipeline LLC.

Description: 4(d) Rate Filing: North Seattle and South Seattle Annual Charges Update Filing 2024 to be effective 4/1/2024.

Filed Date: 2/29/24.

Accession Number: 20240229-5190.

Comment Date: 5 p.m. ET 3/12/24.

Docket Numbers: RP24-461-000.

Applicants: Northwest Pipeline LLC.

Description: 4(d) Rate Filing: 2024 Summer Fuel Filing to be effective 4/1/2024.

Filed Date: 2/29/24.

Accession Number: 20240229-5193.

Comment Date: 5 p.m. ET 3/12/24.

Docket Numbers: RP24-462-000.

Applicants: Columbia Gas Transmission, LLC.

Description: 4(d) Rate Filing: EPCA 2024 to be effective 4/1/2024.

Filed Date: 2/29/24.

Accession Number: 20240229-5226.

Comment Date: 5 p.m. ET 3/12/24.

Docket Numbers: RP24-463-000.

Applicants: Columbia Gas Transmission, LLC.

Description: 4(d) Rate Filing: TCRA 2024 to be effective 4/1/2024.

Filed Date: 2/29/24.

Accession Number: 20240229-5227.

Comment Date: 5 p.m. ET 3/12/24.

Docket Numbers: RP24-464-000.

Applicants: Columbia Gas Transmission, LLC.

Description: 4(d) Rate Filing: RAM 2024 to be effective 4/1/2024.

Filed Date: 2/29/24.

Accession Number: 20240229-5228.

Comment Date: 5 p.m. ET 3/12/24.

Docket Numbers: RP24-465-000.

Applicants: El Paso Natural Gas Company, L.L.C.

Description: 4(d) Rate Filing: Negotiated Rate Agreements Update (Pioneer Mar 2024) to be effective 3/1/2024.

Filed Date: 2/29/24.

Accession Number: 20240229-5232.

Comment Date: 5 p.m. ET 3/12/24.

Docket Numbers: RP24-466-000.

Applicants: Columbia Gulf Transmission, LLC.

Description: 4(d) Rate Filing: TRA 2024 to be effective 4/1/2024.

Filed Date: 2/29/24.

Accession Number: 20240229-5235.

Comment Date: 5 p.m. ET 3/12/24.

Docket Numbers: RP24-467-000.

Applicants: El Paso Natural Gas Company, L.L.C.

Description: 4(d) Rate Filing: Non-Conforming OPASA Update (SRP) to be effective 4/1/2024.

Filed Date: 2/29/24.

Accession Number: 20240229-5238.

Comment Date: 5 p.m. ET 3/12/24.

Docket Numbers: RP24-468-000.

Applicants: Crossroads Pipeline Company.

Description: 4(d) Rate Filing: TRA 2024 to be effective 4/1/2024.

Filed Date: 2/29/24.

Accession Number: 20240229-5250.

Comment Date: 5 p.m. ET 3/12/24.

Docket Numbers: RP24-469-000.

Applicants: NEXUS Gas Transmission, LLC.

Description: 4(d) Rate Filing: 2024 NEXUS ASA Filing to be effective 4/1/2024.

Filed Date: 2/29/24.

Accession Number: 20240229-5259.

Comment Date: 5 p.m. ET 3/12/24.

Docket Numbers: RP24-470-000.

Applicants: Northern Natural Gas Company.

Description: 4(d) Rate Filing: 20240229 Negotiated Rate to be effective 3/1/2024.

Filed Date: 2/29/24.

Accession Number: 20240229-5260.

Comment Date: 5 p.m. ET 3/12/24.

Docket Numbers: RP24-471-000.

Applicants: Midcontinent Express Pipeline LLC.

Description: 4(d) Rate Filing: Out-Of-Cycle Rate Adjustment Filing 2-29-24 to be effective 4/1/2024.

Filed Date: 2/29/24.

Accession Number: 20240229-5264.

Comment Date: 5 p.m. ET 3/12/24.

Docket Numbers: RP24-472-000.

Applicants: Southern Star Central Gas Pipeline, Inc.

Description: 4(d) Rate Filing: Fuel Filing—Eff. April 1, 2024 to be effective 4/1/2024.

Filed Date: 2/29/24.

Accession Number: 20240229-5274.

Comment Date: 5 p.m. ET 3/12/24.

Docket Numbers: RP24-473-000.

Applicants: Rover Pipeline LLC.

Description: Compliance filing: Rover 2023 AMPS Filing to be effective N/A.

Filed Date: 3/1/24.

Accession Number: 20240301-5006.

Comment Date: 5 p.m. ET 3/13/24.

Docket Numbers: RP24-474-000.

Applicants: Rover Pipeline LLC.

Description: Compliance filing: Flow Through of Cash-Out Penalty Revenues filed on 3-1-24 to be effective N/A.

Filed Date: 3/1/24.

Accession Number: 20240301-5009.

Comment Date: 5 p.m. ET 3/13/24.

Docket Numbers: RP24-475-000.

Applicants: Rover Pipeline LLC.

Description: 4(d) Rate Filing: Fuel Filing on 3-1-24 to be effective 4/1/2024.

Filed Date: 3/1/24.

Accession Number: 20240301-5012.

Comment Date: 5 p.m. ET 3/13/24.

Docket Numbers: RP24-476-000.

Applicants: Panhandle Eastern Pipe Line Company, LP.

Description: 4(d) Rate Filing: Fuel Filing on 3-1-24 to be effective 4/1/2024.

Filed Date: 3/1/24.

Accession Number: 20240301-5028.

Comment Date: 5 p.m. ET 3/13/24.

Docket Numbers: RP24-477-000.

Applicants: High Island Offshore System, L.L.C.

Description: 4(d) Rate Filing: Storm Damage Surcharge 2024 to be effective 4/1/2024.

Filed Date: 3/1/24.

Accession Number: 20240301-5029.

Comment Date: 5 p.m. ET 3/13/24.

Docket Numbers: RP24-478-000.

Applicants: Trunkline Gas Company, LLC.

Description: 4(d) Rate Filing: Fuel Filing on 3-1-24 to be effective 4/1/2024.

Filed Date: 3/1/24.

Accession Number: 20240301-5032.

Comment Date: 5 p.m. ET 3/13/24.

Docket Numbers: RP24-479-000.

Applicants: Florida Gas Transmission Company, LLC.

Description: 4(d) Rate Filing: Fuel Filing on 3-1-24 to be effective 4/1/2024.

Filed Date: 3/1/24.

Accession Number: 20240301-5035.

Comment Date: 5 p.m. ET 3/13/24.

Docket Numbers: RP24-480-000.

Applicants: ETC Tiger Pipeline, LLC.

Description: 4(d) Rate Filing: Fuel Filing Out of Cyle on 3-1-24 to be effective 4/1/2024.

Filed Date: 3/1/24.

Accession Number: 20240301-5039.

Comment Date: 5 p.m. ET 3/13/24.

Docket Numbers: RP24-481-000.

Applicants: Midship Pipeline Company, LLC.

Description: 4(d) Rate Filing: Midship Pipeline Company Fuel Filing to be effective 4/1/2024.

Filed Date: 3/1/24.

Accession Number: 20240301-5056.

Comment Date: 5 p.m. ET 3/13/24.

Docket Numbers: RP24-482-000.

Applicants: WBI Energy Transmission, Inc.

Description: 4(d) Rate Filing: 2024 Annual Fuel & Electric Power Reimbursement Adjustment to be effective 4/1/2024.

Filed Date: 3/1/24.

Accession Number: 20240301-5062.

Comment Date: 5 p.m. ET 3/13/24.

Docket Numbers: RP24-483-000.

Applicants: Cheniere Creole Trail Pipeline, L.P.

Description: 4(d) Rate Filing: Cheniere Creole Trail Annual Fuel Adjustment Filing to be effective 4/1/2024.

Filed Date: 3/1/24.

Accession Number: 20240301-5064.

Comment Date: 5 p.m. ET 3/13/24.

Docket Numbers: RP24-484-000.

Applicants: Cheniere Corpus Christi Pipeline, LP.

Description: 4(d) Rate Filing: Cheniere Corpus Christi Annual Fuel Adjustment Filing to be effective 4/1/2024.

Filed Date: 3/1/24.

Accession Number: 20240301-5072.

Comment Date: 5 p.m. ET 3/13/24.

Docket Numbers: RP24-485-000.

Applicants: High Point Gas Transmission, LLC.

Description: Compliance filing: High Point Gas Annual Fuel Adjustment Filing to be effective N/A.

Filed Date: 3/1/24.

Accession Number: 20240301-5082.

Comment Date: 5 p.m. ET 3/13/24.

Docket Numbers: RP24-486-000.

Applicants: TransCameron Pipeline, LLC.

Description: 4(d) Rate Filing: Normal filing 2024 Annual Fuel Reimbursement filing to be effective 4/1/2024.

Filed Date: 3/1/24.

Accession Number: 20240301-5088.

Comment Date: 5 p.m. ET 3/13/24.

Docket Numbers: RP24-487-000.

Applicants: UGI Mt. Bethel Pipeline Company, LLC.

Description: Annual Retainage Adjustment Mechanism filing for 2023 of UGI Mt. Bethel Pipeline Company, LLC.

Filed Date: 3/1/24.

Accession Number: 20240301-5095.

Comment Date: 5 p.m. ET 3/13/24.

Docket Numbers: RP24-488-000.

Applicants: Midcontinent Express Pipeline LLC.

Description: 4(d) Rate Filing: MEP Cashout Filing March 2024 to be effective 4/1/2024.

Filed Date: 3/1/24.

Accession Number: 20240301-5096.

Comment Date: 5 p.m. ET 3/13/24.

Docket Numbers: RP24-489-000.

Applicants: Maritimes & Northeast Pipeline, L.L.C.

Description: 4(d) Rate Filing: Negotiated Rates—Northern to Emera Energy 3067 eff 3-1-24 to be effective 3/1/2024.

Filed Date: 3/1/24.

Accession Number: 20240301-5099.

Comment Date: 5 p.m. ET 3/13/24.

Docket Numbers: RP24-490-000.

Applicants: NEXUS Gas Transmission, LLC.

Description: 4(d) Rate Filing: Negotiated Rates—Various Releases eff 3-1-2024 to be effective 3/1/2024.

Filed Date: 3/1/24.

Accession Number: 20240301-5101.

Comment Date: 5 p.m. ET 3/13/24.

Docket Numbers: RP24-491-000.

Applicants: Equitrans, L.P.

Description: 4(d) Rate Filing: Negotiated Rate Capacity Release Agreements- 3/1/2024 to be effective 3/1/2024.

Filed Date: 3/1/24.

Accession Number: 20240301-5104.

Comment Date: 5 p.m. ET 3/13/24.

Docket Numbers: RP24-492-000.

Applicants: MountainWest Pipeline, LLC.

Description: 4(d) Rate Filing: Storage Aquifer Integration to be effective 4/1/2024.

Filed Date: 3/1/24.

Accession Number: 20240301-5107.

Comment Date: 5 p.m. ET 3/13/24.

Docket Numbers: RP24-493-000.

Applicants: Cheniere Corpus Christi Pipeline, LP.

Description: 4(d) Rate Filing: Cheniere Corpus Christi EPC Rate Change to be effective 4/1/2024.

Filed Date: 3/1/24.

Accession Number: 20240301-5113.

Comment Date: 5 p.m. ET 3/13/24.

Docket Numbers: RP24-494-000.

Applicants: Colorado Interstate Gas Company, L.L.C.

Description: 4(d) Rate Filing: CIG Qtrly LUF True-up Feb 2024 to be effective 4/1/2024.

Filed Date: 3/1/24.

Accession Number: 20240301-5127.

Comment Date: 5 p.m. ET 3/13/24.

Docket Numbers: RP24-495-000.

Applicants: East Tennessee Natural Gas, LLC.

Description: 4(d) Rate Filing: Cashout Payment Flexibility Filing to be effective 4/1/2024.

Filed Date: 3/1/24.

Accession Number: 20240301-5130.

Comment Date: 5 p.m. ET 3/13/24.

Docket Numbers: RP24-496-000.

Applicants: El Paso Natural Gas Company, L.L.C.

Description: 4(d) Rate Filing: Non-Conforming Agreement Filing (Mieco) to be effective 4/1/2024.

Filed Date: 3/1/24.

Accession Number: 20240301-5160.

Comment Date: 5 p.m. ET 3/13/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 1, 2024.
Debbie-Anne A. Reese,
Acting Secretary.

[FR Doc. 2024-04908 Filed 3-7-24; 8:45 am]

BILLING CODE 6717-01-P